DEPARTMENT OF COMMERCE

National Oceanic and Atmospheric Administration

50 CFR Part 216

[Docket No. 0907301201-91203-01]

RIN 0648-AY15

Implementation of Fish and Fish Product Import Provisions of the Marine Mammal Protection Act

AGENCY: National Marine Fisheries Service (NMFS), National Oceanic and Atmospheric Administration (NOAA), Commerce.

ACTION: Advance notice of proposed rulemaking; reopening of comment period.

SUMMARY: NMFS is reopening the comment period, in order to provide additional opportunities for the public, foreign nations that export fish and fish products to the United States, and other interested parties to comment on the advance notice of proposed rulemaking to implement the provisions of section 101(a)(2)(A) of the Marine Mammal Protection Act for imports of fish and fish products. On April 30, 2010, NMFS published the advance notice of proposed rulemaking, with a June 29, 2010, deadline for comments. NMFS is now reopening the comment period until August 30, 2010. NMFS is seeking advance public comment on the development of procedures to implement section 101(a)(2)(A) of the Marine Mammal Protection Act and on the types of information to be considered in the process.

DATES: Written comments must be received by 5 p.m. on August 30, 2010.

ADDRESSES: You may submit comments by any of the following methods:

(1) Electronic Submissions: Submit all electronic public comments via the Federal eRulemaking Portal at http:// www.regulations.gov.

(2) Mail: Director, Office of International Affairs, Attn: MMPA Fish Import Provisions, NMFS, F/IA, 1315 East-West Highway, Silver Spring, MD 20910.

(3) Fax: (301) 713-2313.

All comments received are a part of the public record and will generally be posted to http://www.regulations.gov without change. All Personal Identifying Information (e.g., name, address) voluntarily submitted by the commenter may be publicly accessible. Do not submit Confidential Business Information or otherwise sensitive or protected information.

NMFS will accept anonymous comments (enter N/A in the required fields, if you wish to remain anonymous). Attachments to electronic comments will be accepted in Microsoft Word, Excel, WordPerfect, or Adobe portable document file (pdf) formats only.

FOR FURTHER INFORMATION CONTACT: Kristy Long at Kristy.Long@noaa.gov or 301-713-2322.

SUPPLEMENTARY INFORMATION: The Marine Mammal Protection Act (MMPA), 16 U.S.C. 1361-1423h, contains provisions addressing bycatch, or the incidental mortality and serious injury, of marine mammals in both domestic and foreign fisheries. With respect to foreign fisheries, section 101(a)(2) of the MMPA (16 U.S.C. 1371(a)(2)) states that “[t]he Secretary of the Treasury shall ban the importation of commercial fish or products from fish which have been caught with commercial fishing technology which results in the incidental kill or incidental serious injury of ocean mammals in excess of United States standards. For purposes of applying the preceding sentence, the Secretary [of Commerce]- (A) shall insist on reasonable proof from the government of any nation from which fish or fish products will be exported to the United States of the effects on ocean mammals of the commercial fishing technology in use for such fish or fish products exported from such nation to the United States.”

On April 30, 2010, NMFS published an advance notice of proposed rulemaking to implement section 101(a)(2)(A) of the Marine Mammal Protection Act, with a June 29, 2010, deadline for comments. NMFS is now reopening the comment period until August 30, 2010, in order to provide additional opportunities for the public, foreign nations that export fish and fish products to the United States, and other interested parties to comment.

This rulemaking would define the “United States standards” referred to in MMPA section 101(a)(2), along with any associated criteria by which the United States would assess foreign fisheries that supply fish and fish product imports to the United States (hereafter “import-supplying fisheries”) with respect to marine mammal bycatch. The rule also would describe procedures for ensuring the established standards and their associated criteria are met, as well as procedures for developing recommendations regarding import prohibitions if those standards and associated criteria are not met.

NMFS requests comments on the standards to be used when evaluating foreign import-supplying fisheries, including any suggestions of other standards or associated criteria NMFS should consider or modifications of the standards suggested above; and whether to apply one or more standards.

NMFS also requests comments on the procedures under consideration for ensuring that foreign fisheries imports meet U.S. marine mammal bycatch standards, including whether to apply one or more of the possible standards when evaluating import-supplying fisheries to make decisions regarding initiating consultation or banning imports, which standards to apply, and whether to apply different standards for making the decision to initiate consultation than are used to make the decision to ban imports. Further, NMFS requests comments on what issues and conditions should be considered during consultation and whether and what kind of alternative procedures should be established for implementing import prohibitions on a shipment-by-shipment or shipper-by-shipper basis. Finally, NMFS is requesting comments regarding if and how intermediary nations should be addressed by the procedures under consideration.

Dated: June 28, 2010.
Samuel D. Rauch III,
Deputy Assistant Administrator for Regulatory Programs, National Marine Fisheries Service.

[FR Doc. 2010-16066 Filed 6-30-10; 8:45 am]

BILLING CODE 3510-22-S